DEPARTMENT OF ENERGY

Federal Energy Regulatory Commission

Notice of Application for Amendment of License and Soliciting Comments, Motions To Intervene, and Protests

July 8, 2004.

a. Type of Application: Amendment of License.

b. Project Numbers: P-2403-048, P-2534-068, P-2666-023 and P-2712-055.

c. Date Filed: June 25, 2004.

d. Applicant: PPL Maine, LLC.

e. Name of Projects: Veazie Project (P-2403), Milford Project (P-2534), Medway Project (P-2666), and Stillwater Project (P-2712).

f. Location: The Veazie Project is located on the Penobscot River in Penobscot County, Maine. The Milford Project is located on the Penobscot and Stillwater River in Penobscot County, Maine. The Stillwater Project is located on the Stillwater River in Penobscot County, Maine. The Medway Project is located on the West Branch Penobscot River in Penobscot County, Maine.

g. Filed Pursuant to: Federal Power Act, 16 U.S.C. 791(a)-825(r) and 799 and 801.

h. Applicant Contact: Scott D. Hall, PPL Maine, LLC, Davenport Street, P.O. Box 276, Milford, ME 04461, phone (207) 827-5364.

i. FERC Contact: Any questions on this notice should be addressed to Robert Fletcher at (202) 502-8901, or e-mail address: robert.fletcher@ferc.gov.

j. Deadline for filing comments and or motions: August 9, 2004.

k. Description of Request: The licensee for each of these four projects requests Commission approval of the amendment application for each project in accordance with section IV of the Lower Penobscot River Multiparty Settlement Agreement (Agreement) filed with the Commission on June 25, 2004. For the Veazie Project, the licensee proposes to amend license articles 407, 408, 409, and 410 to be consistent with the fish passage conditions in the Agreement. For the Milford Project, the licensee proposes to amend license articles 301, 305, 402, 407, 408, 409, and 411, and add six new articles to be consistent with the Agreement. For the Medway Project, the licensee proposes to amend article 402 to read “an impoundment surface elevation within six inches of 260.3 feet above mean sea level” which reflects a reservoir level increase of one foot, and add an additional article requiring the licensee to implement the requirements of Attachment B to the Agreement as it pertains to the Medway Project. For the Stillwater Project, the licensee proposes to: (1) Amend article 401 to read “a normal full pond elevation of 94.65 feet” to reflect a one foot increase in reservoir elevation; (2) amend article 402 to change the required minimum flows from “a permanent minimum flow of 40 cubic feet per second (cfs) into the west bypassed channel and a permanent flow of 155 cfs into the east bypassed channel” to “a permanent minimum flow of 20 cubic feet per second (cfs) into the west bypassed channel and a permanent flow of 50 cfs into the east bypassed channel”; (3) amend articles 406, 407, 408, and 409 to be consistent with the fish passage conditions in the Agreement; and (4) add an additional article requiring the licensee to implement the requirements of Attachment B to the Agreement as it pertains to the Stillwater Project.

l. Locations of the Application: A copy of the application is available for inspection and reproduction at the Commission's Public Reference Room, located at 888 First Street, NE, Room 2A, Washington, DC 20426, or by calling (202) 502-8371. This filing may also be viewed on the Commission's Web site at http://www.ferc.gov using the “eLibrary” link. Enter the docket number excluding the last three digits in the docket number field to access the document. You may also register online at http://www.ferc.gov/docs-filing/esubscription.asp to be notified via email of new filings and issuances related to this or other pending projects. For assistance, please contact FERC Online Support at FERCOnlineSupport@ferc.gov, or 1-866-208-3676 for TTY, call (202) 502-8659. A copy is also available for inspection and reproduction at the address in item (h) above.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, OR “MOTION TO INTERVENE”, as applicable, and the Project Number of the particular application to which the filing refers (P-2403-048, P-2534-068, P-2666-023 and/or P-2712-055). All documents (original and eight copies) should be filed with: Magalie R. Salas, Secretary, Federal Energy Regulatory Commission, 888 First Street, NE., Washington DC 20426. A copy of any motion to intervene must also be served upon each representative of the Applicant specified in the particular application.

p. Agency Comments—Federal, state, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's Web site at http://www.ferc.gov under the “e-Filing” link.

Magalie R. Salas,
Secretary.

[FR Doc. E4-1529 Filed 7-13-04; 8:45 am]

BILLING CODE 6717-01-P